DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 69 FR 11444-11445, dated March 10, 2004) is amended to revise the mission of the Office of Science Policy and Technology Transfer.

Section C-B, Organization and Functions, is hereby amended as follows:

Delete in its entirety the functional statement for the Office of Science Policy and Technology Transfer (CAE) and insert the following:

Office of Science Policy and Technology Transfer (CAE). The Associate Director for Science and staff promote and support an environment of scientific excellence and integrity, and the rapid dissemination of scientific innovations, technology, and information. Activities in support of the mission include: (1) Advises the CDC Director and Senior Staff on science matters and represents CDC in these areas to the Department, other agencies, and Congress; (2) maintains the integrity and productivity of CDC's scientists by resolving controversial scientific issues, developing scientific policies and procedures, supporting training and information exchange, and presenting awards for outstanding scientific efforts; (3) assures the protection of human subjects in public health research; (4) integrates behavioral and social sciences research into public health research; (5) provides advice and guidance on the management of intellectual property; interprets policies, rules, and regulations, especially those related to the Federal Technology Transfer Act; (6) promotes and facilitates the timely transfer of technology, knowledge, products, and processes that improve public health through the use of patents, trademarks, Biological Materials Licensing Agreements, and Cooperative Research and Development Agreements; (7) provides leadership, vision, and coordination for CDC Public Health Research, both for research conducted within CDC and for research conducted by external partners and grantees; (8) advises the Secretary of HHS and Director of CDC about the most appropriate use of vaccines and immunization practices for effective disease control in the population through the Advisory Committee for Immunization Practices; and (9) manages the CDC and ATSDR Specimen and Data Bank, an archive of biological materials, including blood components, tissue, bacterial isolates, DNA, and other biological and environmental specimens.

Dated: March 8, 2004.
William H. Gimson,
Chief Operating Officer, Centers for Disease Control and Prevention.

[FR Doc. 04-6874 Filed 3-26-04; 8:45 am]

BILLING CODE 4160-18-M